DEPARTMENT OF TRANSPORTATION

Federal Highway Administration

Notice of Final Federal Agency Actions on Proposed Highway Projects in Texas

AGENCY: Texas Department of Transportation (TxDOT), Federal Highway Administration (FHWA), Department of Transportation.

ACTION: Notice of limitation on claims for judicial review of actions by TxDOT and Federal agencies.

SUMMARY: This notice announces actions taken by TxDOT and Federal agencies that are final. The environmental review, consultation, and other actions required by applicable Federal environmental laws for these projects are being, or have been, carried out by TxDOT pursuant to an assignment agreement executed by FHWA and TxDOT. The actions relate to various proposed highway projects in the State of Texas. These actions grant licenses, permits, and approvals for the projects.

DATES: By this notice, TxDOT is advising the public of final agency actions subject to 23 U.S.C. 139(l)(1). A claim seeking judicial review of TxDOT and Federal agency actions on the highway projects will be barred unless the claim is filed on or before the deadline. For the projects listed below, the deadline is March 16, 2023. If the Federal law that authorizes judicial review of a claim provides a time period of less than 150 days for filing such a claim, then that shorter time period still applies.

FOR FURTHER INFORMATION CONTACT: Patrick Lee, Environmental Affairs Division, Texas Department of Transportation, 125 East 11th Street, Austin, Texas 78701; telephone: (512) 416-2358; email: Patrick.Lee@txdot.gov. TxDOT's normal business hours are 8:00 a.m.-5:00 p.m. (central time), Monday through Friday.

SUPPLEMENTARY INFORMATION: The environmental review, consultation, and other actions required by applicable Federal environmental laws for these projects are being, or have been, carried out by TxDOT pursuant to 23 U.S.C. 327 and a Memorandum of Understanding dated December 9, 2019, and executed by FHWA and TxDOT.

Notice is hereby given that TxDOT and Federal agencies have taken final agency actions by issuing licenses, permits, and approvals for the highway projects in the State of Texas that are listed below.

The actions by TxDOT and Federal agencies and the laws under which such actions were taken are described in the Categorical Exclusion (CE), Environmental Assessment (EA), or Environmental Impact Statement (EIS) issued in connection with the projects and in other key project documents. The CE, EA, or EIS and other key documents for the listed projects are available by contacting the local TxDOT office at the address or telephone number provided for each project below.

This notice applies to all TxDOT and Federal agency decisions as of the issuance date of this notice and all laws under which such actions were taken, including but not limited to:

1. General: National Environmental Policy Act (NEPA) [42 U.S.C. 4321-4351]; Federal-Aid Highway Act [23 U.S.C. 109].

2. Air: Clean Air Act [42 U.S.C. 7401-7671(q)].

3. Land: Section 4(f) of the Department of Transportation Act of 1966 [49 U.S.C. 303]; Landscaping and Scenic Enhancement (Wildflowers) [23 U.S.C. 319].

4. Wildlife: Endangered Species Act [16 U.S.C. 1531-1544 and Section 1536], Marine Mammal Protection Act [16 U.S.C. 1361], Fish and Wildlife Coordination Act [16 U.S.C. 661-667(d)], Migratory Bird Treaty Act [16 U.S.C. 703-712].

5. Historic and Cultural Resources: Section 106 of the National Historic Preservation Act of 1966, as amended [54 U.S.C. 300101 et seq.]; Archeological Resources Protection Act of 1977 [16 U.S.C. 470(aa)-11]; Archeological and Historic Preservation Act [54 U.S.C. 312501 et seq.]; Native American Grave Protection and Repatriation Act (NAGPRA) [25 U.S.C. 3001-3013].

6. Social and Economic: Civil Rights Act of 1964 [42 U.S.C. 2000(d)-2000(d)(1)]; American Indian Religious Freedom Act [42 U.S.C. 1996]; Farmland Protection Policy Act (FPPA) [7 U.S.C. 4201-4209].

7. Wetlands and Water Resources: Clean Water Act [33 U.S.C. 1251-1377] (Section 404, Section 401, Section 319); Land and Water Conservation Fund (LWCF) [16 U.S.C. 4601-4604]; Safe Drinking Water Act (SDWA) [42 U.S.C. 300(f)-300(j)(6)]; Rivers and Harbors Act of 1899 [33 U.S.C. 401-406]; Wild and Scenic Rivers Act [16 U.S.C. 1271-1287]; Emergency Wetlands Resources Act [16 U.S.C. 3921, 3931]; TEA-21 Wetlands Mitigation [23 U.S.C. 103(b)(6)(m), 133(b)(11)]; Flood Disaster Protection Act [42 U.S.C. 4001-4128].

8. Executive Orders: E.O. 11990 Protection of Wetlands; E.O. 11988 Floodplain Management; E.O. 12898 Federal Actions to Address Environmental Justice in Minority Populations and Low-Income Populations; E.O. 11593 Protection and Enhancement of Cultural Resources; E.O. 13007 Indian Sacred Sites; E.O. 13287 Preserve America; E.O. 13175 Consultation and Coordination with Indian Tribal Governments; E.O. 11514 Protection and Enhancement of Environmental Quality; E.O. 13112 Invasive Species.

(Catalog of Federal Domestic Assistance Program Number 20.205, Highway Planning and Construction.)

The projects subject to this notice are:

1. FM 973 from 0.069 miles north of FM 969 to 0.10 miles north of Thyone Drive, Travis County. The project will improve FM 973 from a two-lane roadway to a four-lane roadway with a continuous left-turn lane, paved shoulders, and a northbound sidewalk. The project is approximately 3.9 miles in length. The actions by TxDOT and Federal agencies and the laws under which such actions were taken are described in the Categorical Exclusion Determination issued on June 16, 2022, and other documents in the TxDOT project file. The Categorical Exclusion Determination and other documents in the TxDOT project file are available by contacting the TxDOT Austin District Office at 7901 North I-35, Austin, TX 78753; telephone: (512) 832-7000.

2. Panther Creek Parkway from SH 289 (Preston Road) to Dallas North Tollway in Collin County, Texas. The proposed project would include the extension of a six-lane new location roadway for Panther Creek Parkway (CR 1043) from approximately 1,100-feet east of the Dallas North Tollway (DNT) to approximately 1,000-feet east of Preston Road (SH 289), in the of City of Frisco. The facility would consist of three travel lanes (three 12-foot wide) in each direction with dedicated left and right turn lanes to accommodate the new intersections within a typical ROW of 120 to 140 feet. The proposed project is approximately two miles in length. The purpose of the proposed project is to improve mobility and safety in the project area. The actions by TxDOT and Federal agencies and the laws under which such actions were taken are described in the Categorical Exclusion Determination issued on July 6, 2022, and other documents in the TxDOT project file. The Categorical Exclusion Determination and other documents in the TxDOT project file are available by contacting the TxDOT Dallas District Office at 4777 E. Highway 80, Mesquite, TX 75150; telephone: (214) 320-6200.

3. IH 45 Central Walker County Project, Segment 2B from SH 30 to 0.7 miles south of FM 1696 in Walker County, Texas. The proposed project would replace existing mainlane pavement with new pavement and widen from four to six travel lanes. The proposed facility would continue to be a controlled access divided highway. The mainlane widening would be accomplished by adding additional lanes to the inside of the existing mainlanes. Both inside and outside shoulders would be increased to 12 feet in width. Opposing traffic would be separated with a center concrete traffic barrier instead of a grass median. The project would also reconstruct ramps to current standards. Drainage structures will be widened to accommodate the wider paved surface and existing bridges will be replaced. Frontage roads would also be converted to one-way travel. The SH75/IH 45/FM 1791 interchange would also be reconfigured into a dual roundabout to allow for more efficient traffic flow; this would require the replacement of two interstate bridges. The length of the proposed project is approximately 4.7 miles. The purpose of the proposed project is to bring the interstate facility up to current standards for design and safety and to increase capacity in order to meet future traffic volumes. IH 45 serves as a hurricane and disaster evacuation route for the metro Houston and Galveston areas. The actions by TxDOT and Federal agencies and the laws under which such actions were taken are described in the Categorical Exclusion Determination issued on July 11, 2022, and other documents in the TxDOT project file. The Categorical Exclusion Determination and other documents in the TxDOT project file are available by contacting the TxDOT Bryan District Office at 2591 North Earl Rudder FWY, Bryan, TX 77803; telephone: (979) 778-9764.

4. IH 30 from Linkcrest Drive to I-820, Tarrant County, Texas. The approximately 3.4-mile project in the cities of Fort Worth and White Settlement would focus on improving safety and mobility from Linkcrest Drive to IH 820. The proposed improvements would include widening IH 30 from a four-lane freeway (two mainlanes each direction) to a six-lane freeway (three mainlanes each direction); improvements to the IH 30 and Spur 580 interchange to reduce congestion and enhance safety; and construction of continuous two-lane, one-way frontage roads throughout the project limits. The actions by TxDOT and Federal agencies and the laws under which such actions were taken are described in the Categorical Exclusion Determination issued on July 18, 2022, and other documents in the TxDOT project file. The Categorical Exclusion Determination and other documents in the TxDOT project file are available by contacting the TxDOT Fort Worth District Office at 2501 SW Loop 820, Fort Worth TX, 76133; telephone: (817) 370-6744.

5. SH 6 Central BCS (Bryan-College Station) project from US 190/SH21 to SH 40/William D. Fitch Parkway. The proposed project would include widening the existing roadway from four to six lanes; interchange improvements/replacement; ramp adjustments; U-turns; collector-distributor roads and auxiliary lanes; bridge upgrades and replacements as necessary; continuous bicycle/pedestrian facilities; and upgrades to drainage, illumination, signals, and intelligent transportation system (ITS) facilities. The purpose of the proposed project is to bring the facility up to current standards for design and safety, to relieve congestion, and improve mobility. The actions by TxDOT and Federal agencies and the laws under which such actions were taken are described in the Categorical Exclusion Determination issued on July 26, 2022, and other documents in the TxDOT project file. The Categorical Exclusion Determination and other documents in the TxDOT project file are available by contacting the TxDOT Bryan District Office at 2591 North Earl Rudder FWY, Bryan, TX 77803; telephone: (979) 778-9764.

6. IH 20 Corridor from west of FM 1936 to east of JBS Parkway, Ector County, Texas. This project would improve IH 20 in the City of Odessa in Ector County, over a distance of approximately 10.4 miles. Improvements include adding one mainlane in each direction, reconfiguring interchanges and ramps, and converting frontage roads from two-way operation to one-way operation. The actions by TxDOT and Federal agencies and the laws under which such actions were taken are described in the Categorical Exclusion Determination issued on July 28, 2022, and other documents in the TxDOT project file. The Categorical Exclusion Determination and other documents in the TxDOT project file are available by contacting the TxDOT Odessa District Office at 3901 East Highway 80, Odessa, Texas 79761; telephone: (432) 498-4710.

7. US 281 Alice Improvement Project, on US 281 from Business 281R (north of Alice) to Business 281R (south of Alice), in Jim Wells County, Texas. The purpose of the project is to improve safety and mobility in the project area by widening the roadway to the inside over the existing median and converting the existing roadway to frontage roads. Overpasses and bridges would be constructed to span county roads and creeks, and ditches would be realigned and regraded for drainage. The proposed project length is approximately 9.5 miles. The actions by TxDOT and Federal agencies and the laws under which such actions were taken are described in the Categorical Exclusion Determination issued on August 12, 2022, and other documents in the TxDOT project file. The Categorical Exclusion Determination and other documents in the TxDOT project file are available by contacting the TxDOT Corpus Christi District Office at 1701 South Padre Island Drive, Corpus Christi, TX 78416; telephone: (361) 808-2660.

8. SH 99 from FM 1093 to IH 10, Fort Bend and Harris Counties, Texas. This project will widen SH 99 from four to six lanes between FM 1093 and I-10 for a total distance of approximately 5.9 miles. The additional mainlane is proposed to be constructed within the existing median. The proposed improvements also include an adjustment of ramp locations and the addition of right-turn lanes at various intersections. The actions by TxDOT and Federal agencies and the laws under which such actions were taken are described in the Categorical Exclusion Determination issued on August 29, 2022, and other documents in the TxDOT project file. The Categorical Exclusion Determination and other documents in the TxDOT project file are available by contacting the TxDOT Houston District Office at 7600 Washington Avenue, Houston, TX 77007; telephone: (713) 802-5000.

9. US 77 Sinton Improvement Project, from Business 77 (south of Sinton) to Business 77 (North of Sinton), in San Patricio County, Texas. The purpose of the project is to improve safety and mobility in the project area by upgrading the roadway to interstate standards as part of the future I-69 corridor. The proposed project length is approximately 5.8 miles. The actions by TxDOT and Federal agencies and the laws under which such actions were taken are described in the Final Environmental Assessment (EA), the Finding of No Significant Impact (FONSI) issued on July 8, 2022, and other documents in the TxDOT project file. The EA, FONSI, and other documents in the TxDOT project file are available by contacting the TxDOT Corpus Christi District Office at 1701 South Padre Island Drive, Corpus Christi, TX 78416; telephone: (361) 808-2660.

10. US 79 from IH 35 to east of FM 1460, Williamson County, Texas. The project includes adding a third 12-foot travel lane in each direction, installing a raised median, intersection improvements, and improved pedestrian and bicycle accommodations. The project is 2.48 miles in length. The actions by TxDOT and Federal agencies and the laws under which such actions were taken are described in the Final Environmental Assessment (EA), the Finding of No Significant Impact (FONSI) issued on July 20, 2022, and other documents in the TxDOT project file. The EA, FONSI and other documents in the TxDOT project file are available by contacting the TxDOT Austin District Office at 7901 North I-35, Austin, TX 78753; telephone: (512) 832-7000.

Authority: 23 U.S.C. 139(l)(1).

Michael T. Leary,
Director, Planning and Program Development, Federal Highway Administration.

[FR Doc. 2022-22529 Filed 10-14-22; 8:45 am]

BILLING CODE 4910-22-P